DEPARTMENT OF THE INTERIOR

Bureau of Land Management

[AZ-956-05-1420-BJ]

Notice of Filing of Plats of Survey; Arizona

AGENCY: Bureau of Land Management, Interior.

ACTION: Notice.

SUMMARY: The plats of survey described below are scheduled to be officially filed in the Arizona State Office, Bureau of Land Management, Phoenix, Arizona, (30) thirty calendar days from the date of this publication.

SUPPLEMENTARY INFORMATION:

The Gila and Salt River Meridian, Arizona

The plat representing the dependent resurvey of a portion of the east boundary, a portion of the subdivisional lines, homestead entry survey no. 401 and tract 37 and 38, and metes-and-bounds surveys in section 24, Township 30 North, Range 2 East, accepted November 18, 2004, and officially filed November 30, 2004, for Group 875 Arizona.

This plat was prepared at the request of the United States Forest Service.

The plat representing the dependent resurvey of a portion of the subdivisional lines and the subdivision of section 17, Township 10 South, Range 9 East, accepted November 1, 2004, and officially filed November 5, 2004, for Group 931 Arizona.

This plat was prepared at the request of the Bureau of Land Management.

The plat (3 sheets) representing the survey of the eighth standard parallel north (south boundary), the third guide meridian east (west boundary), the east and the north boundaries and the subdivisional lines, Townships 33 North, Range 13 East, accepted November 1, 2004, and officially filed November 10, 2004 for Group 885 Arizona.

This plat was prepared at the request of the Bureau of Indian Affairs, Western Region and Navajo Regional Office.

The plat representing the dependent resurvey of a portion of the north boundary, a portion of the subdivisional lines, and a portion of the subdivision of section 3; and the subdivision of section 3 and the metes-and-bounds survey in section 3, Township 9 North, Range 23 East, accepted October 4, 2004, and officially filed October 8, 2004 for Group 929 Arizona.

This plat was prepared at the request of the United States Forest Service.

The plat representing the dependent resurvey of the sixth standard parallel north (south boundary), the sixth guide meridian east (east boundary) and a portion of the north boundary, and the survey of a portion of the north boundary, and the subdivisional lines, Township 25 North, Range 24 East, accepted November 12, 2004, and officially filed November 19, 2004 for Group 863 Arizona.

This plat was prepared at the request of the Bureau of Indian Affairs, Navajo Regional Office.

The plat (2 sheets) representing the dependent resurvey of a portion of the subdivisional lines and a portion of the subdivision of sections 22, 23, 26 and 35 and the subdivision of a portion of sections 22, 23, and 26, and the metes-and-bounds survey in sections 23, 26, and 35, Township 8 North, Range 27 East, accepted December 8, 2004, and officially filed December 14, 2004 for Group 910 Arizona.

This plat was prepared at the request of the United States Forest Service.

The supplemental plat representing sections 27, 28k, 33 and 34 in Township 16 South, Range 30 East, accepted November 8, 2004, and officially filed November 19, 2004.

This supplemental plat was prepared at the request of the United States Forest Service.

If a protest against a survey, as shown on any of the above plats is received prior to the date of official filing, the filing will be stayed pending consideration of the protest. A plat will not be officially filed until the day after all protests have been dismissed and become final or appeals from the dismissal affirmed.

A person or party who wishes to protest against any of these surveys must file a written protest with the Arizona State Director, Bureau of Land Management, stating that they wish to protest.

A statement of reasons for a protest may be filed with the notice of protest to the State Director, or the statement of reasons must be filed with the State Director within thirty (30) days after the protest is filed.

FOR FURTHER INFORMATION CONTACT: These plats will be available for inspection in the Arizona State Office, Bureau of Land Management, P.O. Box 1552, Phoenix, Arizona, 85001-1552.

Dated: January 6, 2005.
Stephen K. Hansen,
Acting Cadastral Chief.

[FR Doc. 05-972 Filed 1-18-05; 8:45 am]

BILLING CODE 4310-32-P